DEPARTMENT OF TRANSPORTATION

Coast Guard

33 CFR Part 165

[COTP Honolulu 01-051]

RIN 2115-AA97

Safety Zone; Japanese Fisheries High School Training Vessel EHIME MARU Relocation and Crew Member Recovery, Pacific Ocean, South Shores of the Island of Oahu, HI

AGENCY: U.S. Coast Guard, DOT.

ACTION: Temporary final rule.

SUMMARY: The Coast Guard has established a temporary safety zone around position 21°-04.8′ N, 157°-49.5′ W, south of Oahu, Hawaii. This zone will extend from the surface of the ocean to the bottom. This zone is needed to protect mariners from the hazards associated with preparation of the Japanese Fisheries High School Training Vessel EHIME MARU for relocation. This vessel sank after being struck by the submarine USS GREENEVILLE (SSN 772). Entry into this zone is prohibited unless authorized by the Captain of the Port Honolulu, HI.

DATES: This rule is effective from 7 a.m. HST July 14, 2001, until 4 p.m. August 1, 2001.

ADDRESSES: You may mail comments and related material to U.S. Coast Guard Marine Safety Office Honolulu, 433 Ala Moana Boulevard, Honolulu, HI, 96813, who maintains the public docket for this rulemaking. Comments and material received from the public, as well as documents indicated in this preamble as being available in the docket, will become part of this docket and will be available for inspection or copying at Coast Guard Marine Safety Office Honolulu between 7 a.m. and 3:30 p.m., Monday through Friday, except Federal holidays.

FOR FURTHER INFORMATION CONTACT: LT Mark Willis, U.S. Coast Guard Marine Safety Office Honolulu, Hawaii at (808) 522-8260.

SUPPLEMENTARY INFORMATION:

Regulatory Information

In accordance with 5 U.S.C. 553, a Notice of Proposed Rulemaking (NPRM) was not published for this regulation and good cause exists for making it effective in less than 30 days after Federal Regulation publication. Publishing an NPRM and delaying this action's effective date would be contrary to the public interest since immediate action is needed to protect the vessels and mariners from the hazards associated with preparation of the Japanese Fisheries High School Training Vessel EHIME MARU for relocation. Details were not available 30 days prior to the event, thus, there was insufficient time to publish a proposed rule in advance of the event or to provide a delayed effective date. Under these circumstances, following normal rulemaking procedures would be impracticable.

Background and Purpose

On February 9, 2001, the Japanese Fisheries High School Training Vessel EHIME MARU was struck by the submarine USS GREENEVILLE (SSN 772) approximately 9 nautical miles south of Diamond Head on the island of Oahu, Hawaii. The EHIME MARU sank in approximately 2,000 feet of water. At the time of the sinking, 26 of the 35 crewmembers were successfully rescued. An extensive search failed to locate additional personnel and it is assumed that some, or all, of the nine missing crewmembers were trapped inside the vessel. The EHIME MARU is resting upright on the seafloor at position 21°-04.8′ N, 157°-49.5′ W. The U.S. Navy plans to prepare the EHIME MARU for transportation to shallow water by removing all booms, antennas, or other attached equipment that may interfere with this evolution. To protect vessels and mariners from the hazards associated with preparatory operations, the U.S. Coast Guard has established a temporary safety zone, with a radius of 1 nautical mile, centered on the vessels present location of 21°-04.8′ N, 157°-49.5′ W. This zone extends from the surface of the ocean to the bottom. Entry into the safety zone is prohibited unless authorized by the Captain of the Port Honolulu, HI. The safety zone will be enforced by representatives of the Captain of the Port Honolulu. The Captain of the Port may be assisted by other federal agencies.

Regulatory Evaluation

This rule is not a significant regulatory action under section 3(f) of Executive Order 12866 and does not require an assessment of potential costs and benefits under section 6(a)(3) of that Order. The Office of Management and Budget has not reviewed it under that Order. It is not significant under the regulatory policies and procedures of the Department of Transportation (DOT) (44 FR 11040, February 26, 1979). The U.S. Coast Guard expects the economic impact of this action to be so minimal that a full Regulatory Evaluation under paragraph 10(e) of the regulatory policies and procedures of DOT is unnecessary. This expectation is based on the short duration of the zone and the limited geographic area affected by it.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The U.S. Coast Guard certifies under 5 U.S.C. 605(b) that this regulation will not have a significant economic impact on a substantial number of small entities. No small business impacts are anticipated due to the small size of the zone and the short duration.

Collection of Information

This rule calls for no new collection of information under the Paperwork Reduction Act of 1995 (44 U.S.C. 3501-3520).

Federalism

The U.S. Coast Guard has analyzed this rule under Executive Order 13132, and has determined this rule does not have implications for federalism under that Order.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The U.S. Coast Guard considered the environmental impact of this action and concluded that, under figure 2-1, paragraph (34)(g) of Commandant Instruction M16475.1C, this rule is categorically excluded from further environmental documentation. A Categorical Exclusion Determination is available in the docket for inspection or copying where indicated under ADDRESSES.

List of Subjects in 33 CFR Part 165

Harbors, Marine safety, Navigation (water), Reporting and recordkeeping requirements, Security measures, Waterways.

Regulation

For the reasons set out in the preamble, the Coast Guard amends 33 CFR part 165 as follows:

PART 165—[AMENDED]

1. The authority citation for part 165 continues to read as follows:

Authority: 33 U.S.C. 1231; 50 U.S.C. 191, 33 CFR 1.05-1(g), 6.04-1, 6.04-6, 160.5; 49 CFR 1.46.

2. From 7 a.m., July 14, 2001, to 4 p.m., August 1, 2001, a new § 165.T14-051 is temporarily added to read as follows:

§ 165.T14-051 Safety Zone: Japanese Fisheries High School Training Vessel EHIME MARU Relocation and Crew Member Recovery, Pacific Ocean, South Shores of the Island of Oahu, Hawaii.

(a) Location. The following area is a safety zone: At the current location of the Japanese Fisheries High School Training Vessel EHIME MARU, all waters from the surface of the ocean to the bottom within a 1 nautical mile radius centered at 21°-04.8′ N, 157°-49.5′ W.

(b) Designated Representative. A designated representative of the U.S. Coast Guard Captain of the Port is any U.S. Coast Guard commissioned, warrant, or petty officer that has been authorized by the U.S. Coast Guard Captain of the Port, Honolulu, to act on his behalf. The following officers have or will be designated by the Captain of the Port Honolulu: The senior U.S. Coast Guard boarding officer on each vessel enforcing the safety zone.

(c) Regulations. In accordance with the general regulations in § 165.23 of this part, entry into these zones is prohibited unless authorized by the U.S. Coast Guard Captain of the Port or his designated representatives. The Captain of the Port Honolulu will grant general permissions to enter the zones via Broadcast Notice to Mariners.

(d) Effective dates. This section is effective from 7 a.m. July 14, 2001, until 4 p.m., August 1, 2001.

Dated: July 11, 2001.
G.J. Kanazawa,
Captain, U.S. Coast Guard, Captain of the Port Honolulu.

[FR Doc. 01-18678 Filed 7-25-01; 8:45 am]

BILLING CODE 4910-15-P